DEPARTMENT OF HOMELAND SECURITY

Federal Emergency Management Agency

[Docket ID FEMA-2015-0001; Internal Agency Docket No. FEMA-B-1531]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with title 44, part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: August 10, 2015.
Roy E. Wright,
Deputy Associate Administrator for Insurance and Mitigation, Department of Homeland Security, Federal Emergency Management Agency.

State and county | Location and case No. | Chief executive officer of community | Community map repository | Online location of letter of map revision | Effective date of modification | Community No.
Idaho:
Ada | City Of Eagle (15-10-0917P). | The Honorable James Reynolds, Mayor, City of Eagle, 660 East Civic Lane, Eagle, ID 83616 | 660 East Civic Lane, Eagle, ID 83616 | http://www.msc.fema.gov/lomc | Nov. 5, 2015 | 160003
Ada | Unincorporated areas of Ada County (15-10-0917P). | The Honorable Dave Case, District Commissioner, Ada County, 200 W Front Street, 3rd Floor, Boise, ID 83702 | 200 West Front Street 3rd Floor, Boise, ID 83702 | http://www.msc.fema.gov/lomc | Nov. 5, 2015 | 160001
Ada | Unincorporated areas of, Ada County (15-10-0733P). | The Honorable Dave Case, District Commissioner, Ada County, 200 West Front Street, 3rd Floor, Boise, ID 83702 | 200 West Front Street, 3rd Floor, Boise, ID 83702 | http://www.msc.fema.gov/lomc | Nov. 6, 2015 | 160001
Ada | Unincorporated areas of Ada County (15-10-0807P). | The Honorable Dave Case, District Commissioner, Ada County, 200 West Front Street, 3rd Floor, Boise, ID 83702 | 200 West Front Street, 3rd Floor, Boise, ID 83702 | http://www.msc.fema.gov/lomc | Oct. 14, 2015 | 160001
Kootenai | Unincorporated areas of Kootenai County (15-10-0478P). | Mr. David Stewart Chairman, Board of County Commissioners, 451 Government Way, Coeur d'Alene, ID 83816 | Assessors Department, Kootenai County Court House, 451 Government Way, Coeur d'Alene, ID 83816 | http://www.msc.fema.gov/lomc | Oct. 29, 2015 | 160076
Teton | Unincorporated areas of Teton County (15-10-0131P). | The Honorable Bill Leake Chair, Board of Teton County Commissioners, Teton County Courthouse, 150 Courthouse Drive, Driggs, ID 83422 | 89 N Main, Suite 6, P. O. Box 763, Driggs, ID 83422 | http://www.msc.fema.gov/lomc | Oct. 16, 2015 | 160230
Illinois:
Adams | City Of Quincy (14-05-8464P). | The Honorable Kyle A. Moore, Mayor, City of Quincy, 730 Main Street, Quincy, IL 62301 | Quincy City Hall, 730 Maine Street, Quincy, IL 62301 | http://www.msc.fema.gov/lomc | Oct. 20, 2015 | 170003
Kane | City Of Elgin (15-05-1616P). | The Honorable Dave Kaptain, Mayor, City of Elgin, 150 Dexter Court, Elgin, IL 60120 | Public Works Department, Engineering Department, 150 Dexter Court, Elgin, IL 60120 | http://www.msc.fema.gov/lomc | Nov. 3, 2015 | 170087
Kane | Unincorporated areas of Kane County (15-05-1616P). | The Honorable Christopher Lauzen, Kane County Chairman, Kane County Government Center, 719 South Batavia Ave. Building A, Geneva, IL 60134 | Kane County Government Center Building A, Water Resources Department, 719 South Batavia Avenue, Geneva, IL 60134 | http://www.msc.fema.gov/lomc | Nov. 3, 2015 | 170896
Indiana:
Allen | City Of Fort Wayne (15-05-3985P). | The Honorable Tom Henry, Mayor, City of Fort Wayne, 200 East Berry Street, Suite 420, Fort Wayne, IN 46802 | 200 East Berry Street, Fort Wayne, IN 46802 | http://www.msc.fema.gov/lomc | Nov. 3, 2015 | 180003
Allen | Unincorporated areas of Allen County (15-05-3985P). | Mr. F. Nelson Peters, Allen County Commissioner, Citizens Square, 200 East Berry Street, Suite 410, Fort Wayne, IN 46802 | 200 East Berry Street, Fort Wayne, IN 46802 | http://www.msc.fema.gov/lomc | Nov. 3, 2015 | 180302
Rush | City Of Rushville (15-05-3870X). | The Honorable Michael P. Pavey, Mayor, City of Rushville, 133 West First Street, Rushville, IN 46173 | Rush County Courthouse, Area Plan Commission, Room 211, 101 East 2nd Street, Rushville, IN 46173 | http://www.msc.fema.gov/lomc | Nov. 11, 2015 | 180223
Rush | Unincorporated areas of Rush County (15-05-3870X). | Mr. Bruce Levi, Chairman, Rush County Board of Commissioners, Rush County Courthouse, 101 East 2nd Street, Room 102, Rushville, IN 46173 | Rush County Courthouse, Area Plan Commission, Room 211, 101 East 2nd Street, Rushville, IN 46173 | http://www.msc.fema.gov/lomc | Nov. 11, 2015 | 180421
Kansas:
Shawnee | Unincorporated areas of Shawnee County (15-07-0760P). | The Honorable Kevin Cook, Chair—Shawnee County Commissioners, County Courthouse, 200 Southeast 7th Street, Topeka, KS 66603 | 200 Southeast 7th Street, County Courthouse, Topeka, KS 66603 | http://www.msc.fema.gov/lomc | Nov. 10, 2015 | 200331
Missouri:
Jefferson | City Of Crystal City (15-07-0050P). | The Honorable Thomas V Schilly, Mayor, City of Crystal City, 130 Mississippi Avenue, Crystal City, MO 63019 | 130 Mississippi Avenue, Debbie Johns, Crystal City, MO 63019 | http://www.msc.fema.gov/lomc | Nov. 9, 2015 | 290189
Jefferson | City Of Festus (15-07-0050P). | The Honorable Mike Cage, Mayor, City of Festus, 711 West Main, Festus, MO 63028 | 950 North Fifth Street, Festus, MO 63028 | http://www.msc.fema.gov/lomc | Nov. 9, 2015 | 290191
Scott | City Of Scott City (15-07-0234P). | The Honorable Tim Porch, Mayor, City of Scott City, 215 Chester Avenue, City of Scott City, MO 63780 | c/o Building Inspector Robert Hood, 215 Chester Avenue, Scott City, MO 63780 | http://www.msc.fema.gov/lomc | Oct. 14, 2015 | 290414
Scott | Unincorporated areas of Scott County (15-07-0234P). | The Honorable Jamie Burger, Scott County Presiding Commissioner, 131 South Winchester Street, Benton, Missouri 63736 | 131 South Winchester Street, P. O. Box 245, Benton, MO 63736 | http://www.msc.fema.gov/lomc | Oct. 14, 2015 | 290837
Ohio:
Cuyahoga | City Of Strongsville (15-05-3955P). | The Honorable Thomas P. Perciak, Mayor, City of Strongsville, 16099 Foltz Parkway, Strongsville, OH 44149 | City Hall, 16099 Foltz Parkway, Strongsville, OH 44149 | http://www.msc.fema.gov/lomc | Nov. 6, 2015 | 390132
Lorain | City Of Elyria (15-05-2448P). | The Honorable Holly C. Brinda, Mayor, City of Elyria, City Hall, 3rd Floor, 131 Court Street, Elyria, OH 44035 | City Hall, Suite 101, 131 Court Street, Elyria, OH 44035 | http://www.msc.fema.gov/lomc | Oct. 20, 2015 | 390350
Oregon:
Multnomah | City Of Portland (15-10-0392P). | The Honorable Charlie Hales, Mayor, City of Portland, 1221 SW 4th Avenue, Room 340, Portland, OR 97204 | 1221 SW 4th Avenue, Room 230, Portland, OR 97204 | http://www.msc.fema.gov/lomc | Nov. 13, 2015 | 410183
Multnomah | City Of Troutdale (15-10-0523P). | The Honorable Doug Daoust, Mayor, City of Troutdale, 219 East Historic Columbia River Highway, Troutdale, OR 97060 | 219 East Historic Columbia River Highway, Troutdale, OR 97060 | http://www.msc.fema.gov/lomc | Oct. 28, 2015 | 410184
Texas:
Dallas | City Of Hutchins (14-06-3724P). | The Honorable Mario Vasquez, Mayor, City of Hutchins, 321 North Main Street, Hutchins, TX 75141 | City Hall, 321 North Main Street, Hutchins, TX 75141 | http://www.msc.fema.gov/lomc | Nov. 6, 2015 | 480179
Dallas | City Of Wilmer (14-06-3724P). | The Honorable Casey Burgess, Mayor, City of Wilmer, 128 North Dallas Avenue, Wilmer, TX 75172 | City Hall, 300 Country Club Road, Wylie, TX 75098 | http://www.msc.fema.gov/lomc | Nov. 6, 2015 | 480190
Dallas. | Unincorporated areas of Dallas County (14-06-3724P). | The Honorable Clay L. Jenkins, Presiding Officer, County Commissioner Court, 411 Elm Street, Dallas, TX 75202 | Dallas County Records Building, 509 Main Street, Dallas, TX 75202 | http://www.msc.fema.gov/lomc | Nov. 6, 2015 | 480165
Denton | Town Of Hickory Creek (14-06-4263P). | The Honorable John Smith, Mayor, Town of Hickory Creek, 1075 Ronald Reagan Avenue, Hickory Creek, TX 75065 | 1075 Ronald Reagan Avenue, Hickory Creek, TX 75065 | http://www.msc.fema.gov/lomc | Oct. 28, 2015 | 481150
Denton | Unincorporated areas of Denton County (14-06-4263P). | The Honorable Mary Horn, County Judge, Denton County, 1450 East McKinney Street, Denton, Texas 76209 | 1505 East McKinney Street, Suite 175, Denton, TX 76209 | http://www.msc.fema.gov/lomc | Oct. 28, 2015 | 480774
Tarrant | City Of Bedford (14-06-4249P). | The Honorable Jim Griffin, Mayor, City of Bedford, City Hall, 2000 Forest Ridge Drive, Bedford, TX 76021 | Public Works Office, 1813 Reliance Parkway, Bedford, TX 76021 | http://www.msc.fema.gov/lomc | Sept. 20, 2015 | 480585
Tarrant | City Of Colleyville (14-06-4249P). | The Honorable David Kelly, Mayor, City of Colleyville, City Hall, 100 Main Street, Colleyville, TX 76034 | Public Works Office, 100 Main Street, Colleyville, TX 76034 | http://www.msc.fema.gov/lomc | Sept. 20, 2015 | 480590
Tarrant | City Of Euless (14-06-4249P). | The Honorable Linda Martin, Mayor, City of Euless, City Hall, 201 North Ector Drive, Euless, TX 76039 | Planning and Engineering Building, 201 North Ector Drive, Euless, TX 76039 | http://www.msc.fema.gov/lomc | Sept. 20, 2015 | 480593
Washington:
Pacific | Unincorporated areas of Pacific County (15-10-0999X). | The Honorable Lisa Ayers, Pacific County Commissioner, District 3, P. O. Box 187, 1216 West Robert Bush Drive, South Bend, WA 98586 | 300 Memorial Drive, South Bend, WA 98586 | http://www.msc.fema.gov/lomc | Sept. 22, 2015 | 530126
Wisconsin:
Trempealeau | Village Of Strum (15-05-2619P). | The Honorable Dean Boehne, President, Village of Strum, 202 South Fifth Avenue, P. O. Box 25, Strum, WI 54770 | 202 South Fifth Avenue, Strum, WI 54770 | http://www.msc.fema.gov/lomc | Nov. 13, 2015 | 555583
Trempealeau | Unincorporated areas of Trempealeau County (15-05-2619P). | The Honorable Richard Miller, County Board Chairman Trempealeau County, 36245 Main Street, Whitehall, WI 54773 | 36245 Main Street, Whitehall, WI 54773 | http://www.msc.fema.gov/lomc | Nov. 13, 2015 | 555585

[FR Doc. 2015-21744 Filed 9-1-15; 8:45 am]

BILLING CODE 9110-12-P